DEPARTMENT OF COMMERCE

International Trade Administration

[A-122-814]

Pure Magnesium from Canada: NAFTA Panel Decision

AGENCY: Import Administration, International Trade Administration, Department of Commerce.

ACTION: Notice of NAFTA Panel decision.

SUMMARY: On April 28, 2003, the North American Free Trade Agreement (“NAFTA”) Panel remanded an affirmative determination by the Department of Commerce (the “Department”) in the sunset review of the antidumping duty order on pure magnesium from Canada. See Pure Magnesium from Canada, Secretariat File No. USA-CDA-00-1904-06, as modified by the NAFTA Panel's June 24, 2003 Order¹ (“Pure Magnesium from Canada, Third Remand”). Consistent with the decision of the United States Court of Appeals for the Federal Circuit (Federal Circuit) in Timken Co. V. United States, 893 F.2d 337 (Fed. Cir. 1990) (Timken), the Department is notifying the public that Pure Magnesium from Canada, Third Remand and the NAFTA Panel's earlier opinions in this case, discussed below, were “not in harmony” with the Department's original results.

¹ See Pure Magnesium from Canada, Secretariat File No. USA-CDA-00-1904-06 (June 24, 2003).

EFFECTIVE DATE: July 16, 2003.

FOR FURTHER INFORMATION CONTACT: Martha Douthit or Kelly Parkhill, Office of Policy, Import Administration, International Trade Administration, U.S. Department of Commerce, 14th Street and Constitution Ave., NW, Washington, D.C. 20230; telephone: (202) 482-5050 or (202) 482-3791, respectively.

SUPPLEMENTARY INFORMATION:

Background

On July 5, 2000, the Department published a notice of the final results of the sunset review of the antidumping duty order on pure magnesium from Canada. See Pure Magnesium From Canada; Final Results of Full Sunset Review, 65 FR 41436, July 5, 2000. Subsequent to the Department's Final Results, respondents filed a complaint before the NAFTA Panel challenging these results. Thereafter, the NAFTA Panel issued an Order and Opinion dated March 27, 2002. See Pure Magnesium from Canada, Secretariat File No. USA-CDA-00-1904-06, (“First Remand”). On May 28, 2002, the Department released final results of determination pursuant to NAFTA Panel remand of the sunset review of the antidumping duty order on pure magnesium from Canada. On October 15, 2002, the NAFTA Panel issued its second remand redetermination in the Canadian magnesium antidumping order sunset case concerning two issues. See Decision of the Panel Concerning the Remand Determination by the Department of Commerce, Pure Magnesium From Canada, File USA-CDA-00-1904-07 (Oct. 15, 2002), at 3, (“Second Remand”). On January 28, 2003, the Department's filed its second redetermination on remand with the NAFTA Secretariat. On April 28, 2003, the NAFTA Panel remanded an affirmative determination by the Department with instructions to revoke the antidumping order on pure magnesium from Canada. On June 24, 2003, the NAFTA Panel modified the Panel's Decision and Order issued on April 28, 2003.

Timken Notice

In its decision in Timken, the Federal Circuit held that, pursuant to 19 U.S.C. 1516a(e), the Department must publish notice of a CIT decision which is “not in harmony” with the Department's results. Timken, 893 F.2d at 340. Because NAFTA panels step into the shoes of the courts they are replacing, they must apply the law of the national court that would otherwise review the administrative determination. Therefore, we are publishing notice that the NAFTA Panel's decision in Pure Magnesium from Canada, Third Remand is “not in harmony” with the Department's sunset results. Publication of this notice fulfills the obligation imposed upon the Department by the decision in Timken. In addition, this notice will serve to continue the suspension of liquidation. If an Extraordinary Challenge Committee panel request (“ECC panel request”) is not filed, or if an ECC panel request is filed, and the NAFTA panel's decision is upheld, the Department will publish amended final sunset review results revoking the antidumping order on pure magnesium from Canada.

Dated: July 10, 2003.
Jeffrey A. May,
Acting Assistant Secretary for Grant Aldonas, Under Secretary.

[FR Doc. 03-18016 Filed 7-15-03; 8:45 am]

BILLING CODE 3510-DS-S